SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below.

(OMB), Office of Management and Budget, Attn: Desk Officer for SSA, Fax: 202-395-6974, E-mail address: OIRA_Submission@omb.eop.gov.

(SSA), Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than August 24, 2009. Individuals can obtain copies of the collection instrument by calling the SSA Reports Clearance Officer at 410-965-3758 or by writing to the e-mail address we list above.

1. Medicare Part B Income-Related Premium—Life-Changing Event Form—20 CFR 408.1125-.1201—0960-0735. Per the Medicare Modernization Act of 2003, selected recipients of Medicare Part B insurance pay an income-related monthly adjustment amount (IRMAA). The Internal Revenue Service (IRS) uses income tax return data to determine the amount of IRMAA. SSA uses Form SSA-44 to determine if a recipient qualifies for a reduction in IRMMA. If affected Medicare Part B recipients believe more recent tax data should be used because a life-changing event has occurred that significantly reduces his/her income, they can report these changes to SSA and ask for a new initial determination of his/her IRMAA. The respondents are Medicare Part B recipients who have a modified adjusted gross income over a high-income “threshold.”

Type of Request: Extension of an OMB-approved information collection.

Method of information collection | Number of respondents | Frequency of response | Average burden per response (mins.) | Estimated annual burden (hours)
Personal Interview | 128,000 | 1 | 30 | 64,000
Form | 32,000 | 1 | 45 | 24,000
Totals | 160,000 | — | — | 88,000

II. SSA has submitted the information collections we list below to OMB for clearance. Your comments on the information collections would be most useful if OMB and SSA receive them within 30 days from the date of this publication. To be sure we consider your comments, we must receive them no later than July 27, 2009. You can obtain a copy of the OMB clearance packages by calling the SSA Reports Clearance Officer at 410-965-3758 or by writing to the above e-mail address.

1. Request for Internet Services—Authentication; Automated Telephone Speech Technology—Knowledge-Based Authentication—20 CFR 401.45—0960-0596.

To verify identity, SSA requests individuals and third parties who seek personal information from SSA records, or register to participate in SSA's online business services, to provide certain identifying information. As an extra measure of protection, SSA asks requestors who use the Internet and telephone services to provide additional identifying information unique to those services so SSA can authenticate their identities before releasing personal information. The respondents are current beneficiaries who are requesting personal information from SSA and/or individuals or third parties who are registering for SSA's online business services.

Type of Request: Extension of an OMB-approved information collection.

Forms | Number of respondents | Frequency of response | Average burden per response (mins.) | Burden hours
Internet Requestors | 3,357,503 | 1 | 1½ | 83,938
Telephone Requestors | 24,171,867 | 1 | 1½ | 604,297
Totals | 27,529,370 |  |  | 688,235

2. Application for Special Benefits for World War II Veterans—20 CFR 408, Subparts B, C and D—0960-0615. Title VIII of the Social Security Act (Special Benefits for Certain World War II Veterans) allows a qualified World War II veteran who resides outside the United States to receive monthly payments. The regulations set out the requirements an individual needs to meet to qualify for and become entitled to Special Veterans Benefits (SVB). SSA uses Form SSA-2000-F6 to elicit the information necessary to determine entitlement to SVB. The respondents are individuals who are applying for SVB under Title VIII of the Social Security Act.

Note: This is a correction notice: SSA published this information collection with the incorrect burden information for this collection at 74 FR 18782, on April 24, 2009. We are correcting the error here.

Type of Request: Revision of an OMB-approved information collection.

Section No. | Number of respondents | Frequency of response | Average burden per response (mins.) | Estimated annual hour burden
§ 408.202(d); § 408.210; § 408.230(a); § 408.305; §§ 408.310-.315 (SSA-2000-F6) | 100 | 1 | 20 | 33
§ 408.420(a), (b) | 71 | 1 | 15 | 18
§§ 408.430 & .432 | 66 | 1 | 30 | 33
§ 408.435(a), (b), (c) | 71 | 1 | 15 | 18
Totals | 308 |  |  | 102

Dated: June 19, 2009.
John Biles,
Reports Clearance Officer, Center for Reports Clearance, Social Security Administration.

[FR Doc. E9-14916 Filed 6-24-09; 8:45 am]

BILLING CODE 4191-02-P